DEPARTMENT OF HEALTH AND HUMAN SERVICES

Food and Drug Administration

[Docket No. FDA-1986-F-0277] (formerly Docket No. 1986F-0364)

Danisco USA, Inc.; Withdrawal of Food Additive Petition; Correction

AGENCY: Food and Drug Administration, HHS.

ACTION: Notice; correction.

SUMMARY: The Food and Drug Administration (FDA) is correcting a document announcing the withdrawal, without prejudice to a future filing, of a food additive petition (FAP 6A3958) that appeared in the Federal Register of June 20, 2008. FDA is correcting the addresses of both Pfizer, Inc., and Danisco USA, Inc.

DATES: This correction is effective July 2, 2008.

FOR FURTHER INFORMATION CONTACT: Joyce Strong, Regulations Editorial Section (HF-27), Food and Drug Administration, 5600 Fishers Ln., Rockville, MD 20857, 301-827-7010.

SUPPLEMENTARY INFORMATION: In FR Doc. E8-13998, published on June 20, 2008 (73 FR 35142), the following corrections are made:

1. On page 35143, in the first column, in the SUPPLEMENTARY INFORMATION section, the address for Pfizer, Inc., is corrected to read “235 East 42d St., New York, NY 10017”.

2. Also on page 35143, in the first column, in the SUPPLEMENTARY INFORMATION section, the address for Danisco USA, Inc., is corrected to read “565 Taxter Rd., suite 590, Elmsford, NY 10523”.

Dated: June 26, 2008.
Laura M. Tarantino,
Director, Office of Food Additive Safety, Center for Food Safety and Applied Nutrition.

[FR Doc. E8-14998 Filed 7-1-08; 8:45 am]

BILLING CODE 4160-01-S